DEPARTMENT OF HOMELAND SECURITY

Coast Guard

33 CFR Part 100

[Docket No. USCG-2020-0081]

RIN 1625-AA08

Special Local Regulation; Choptank River, Hambrooks Bay, Cambridge, MD

AGENCY: Coast Guard, DHS.

ACTION: Notice of proposed rulemaking; withdrawal.

SUMMARY: The Coast Guard is withdrawing its proposed rule concerning temporary special local regulations for certain waters of the Choptank River that was to have been in effect on July 25, 2020 and July 26, 2020 to provide for the safety of life on these navigable waters located at Cambridge, MD during a high-speed power boat racing event. The proposed rule is being withdrawn because it is no longer necessary. The event sponsor has cancelled the boat race.

DATES: The Coast Guard is withdrawing the proposed rule published May 6, 2020 (85 FR 26903) as of June 10, 2020.

ADDRESSES: To view the docket for this withdrawn rulemaking, go to https://www.regulations.gov, type USCG-2020-0081 in the “SEARCH” box and click “SEARCH.” Click on Open Docket Folder on the line associated with this rule.

FOR FURTHER INFORMATION CONTACT: If you have questions about this notice, call or email MST3 Courtney Perry, Sector Maryland-National Capital Region Waterways Management Division, U.S. Coast Guard; telephone (410) 576-2674, email Courtney.E.Perry@uscg.mil.

SUPPLEMENTARY INFORMATION:

Background

On May 6, 2020, we published a notice of proposed rulemaking entitled “Special Local Regulation; Choptank River, Hambrooks Bay, Cambridge, MD” in the Federal Register (85 FR 26903). The rulemaking concerned was proposing to establish temporary special local regulations for certain waters of the Choptank River in Cambridge, MD on July 25, 2020 and July 26, 2020. This action was necessary to provide for the safety of life on these waters during a high-speed power boat racing event. This rulemaking would have prohibited persons and vessels from entering the regulated area unless authorized by the Captain of the Port Maryland-National Capital Region or a designated representative.

Withdrawal

The proposed rule is being withdrawn due to a regulated area no longer being necessary following a cancellation of the high-speed power boat racing event by the event sponsor.

Authority

We are issuing this notice of withdrawal under the authority of 46 U.S.C. 70034.

Dated: June 5, 2020.
Joseph B. Loring,
Captain, U.S. Coast Guard, Captain of the Port Sector Maryland-National Capital Region.

[FR Doc. 2020-12581 Filed 6-9-20; 8:45 am]

BILLING CODE 9110-04-P